DEPARTMENT OF HEALTH AND HUMAN SERVICES

Centers for Medicare & Medicaid Services

[CMS-1495-CN]

RIN 0938-AP50

Medicare Program; Inpatient Psychiatric Facilities Prospective Payment System Payment Update for Rate Year Beginning July 1, 2009 (RY 2010); Correction

AGENCY: Centers for Medicare & Medicaid Services (CMS), HHS.

ACTION: Correction of notice.

SUMMARY: This document corrects typographical errors that appeared in the notice published in the May 1, 2009 Federal Register entitled, “Inpatient Psychiatric Facilities Prospective Payment System Payment Update for Rate Year Beginning July 1, 2009 (RY 2010).”

DATES: Effective Date: August 6, 2009. Applicability Date: The correction notice is applicable for discharges occurring on or after July 1, 2009 through June 30, 2010.

FOR FURTHER INFORMATION CONTACT: Dorothy Myrick or Jana Lindquist, (410) 786-4533.

SUPPLEMENTARY INFORMATION:

I. Background

In FR Doc. E9-9962 of May 1, 2009 (74 FR 20362), there were several typographical errors in Addendum B, Table 1—RY 2010 Wage Index For Urban Areas Based On CBSA Labor Market Areas—that are identified and corrected in the Correction of Errors section below.

II. Correction of Errors

In FR Doc. E9-9962 of May 1, 2009 (74 FR 20362), make the following corrections: 1. On pages 20389, 20392, and 20399 in Addendum B, Table 1—RY 2010 Wage Index for Urban Areas Based on CBSA Labor Market Areas, there are typographical errors in the wage index values for several of the Core-Based Statistical Areas (CBSAs). The correct wage index values, not the values incorrectly published in the FY 2010 Inpatient Psychiatric Facilities (IPF) Prospective Payment System (PPS) notice, were implemented beginning on July 1, 2009. The following CBSAs are corrected to read as follows:

CBSA code | Urban area (constituent counties) | Wage index
26820 | Idaho Falls, ID Bonneville County, ID Jefferson County, ID | 0.9080
26900 | Indianapolis-Carmel, IN Boone County, IN Brown County, IN Hamilton County, IN Hancock County, IN Hendricks County, IN Johnson County, IN Marion County, IN Morgan County, IN Putnam County, IN Shelby County, IN | 0.9908
34900 | Napa, CA Napa County, CA | 1.4520
49500 | Yauco, PR Guánica Municipio, PR Guayanilla Municipio, PR Peñuelas Municipio, PR Yauco Municipio, PR | 0.3432

III. Waiver of Proposed Rulemaking and Delay in Effective Date

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons in the notice.

Section 553(d) of the APA ordinarily requires a 30-day delay in the effective date of rules after the date of their publication in the Federal Register. This 30-day delay in the effective date can be waived, however, if an agency finds for good cause that the delay is impracticable, unnecessary, or contrary to the public interest, and the agency incorporates a statement of the findings and its reasons in the rule issued. This notice merely corrects typographical errors in the addendum of the RY 2010 IPF PPS notice and does not make any substantive changes to the policies or payment methodologies. The correct policies were implemented as of July 1, 2009. We are simply conforming the RY 2010 IPF PPS notice to those policies by making the corrections identified herein. We believe that undertaking further notice and comment procedures to incorporate these corrections into the FY 2010 IPF PPS notice and delaying the effective date of these changes is unnecessary. In addition, we believe it is important for the public to have the correct information as soon as possible, and believe it is contrary to the public interest to delay the dissemination of it. Therefore, we find there is good cause to waive notice and comment procedures and the 30-day delay in the effective date for this correction notice.

(Catalog of Federal Domestic Assistance Program No. 93.773, Medicare—Hospital Insurance; and Program No. 93.774, Medicare—Supplementary Medical Insurance Program)

Dated: July 29, 2009.
Dawn Smalls,
Executive Secretary to the Department.

[FR Doc. E9-18875 Filed 8-5-09; 8:45 am]

BILLING CODE 4120-01-P